FEDERAL RESERVE SYSTEM

Formations of, Acquisitions by, and Mergers of Bank Holding Companies; Correction

This notice corrects a notice (FR Doc. 04-13514) published on page 33641 of the issue for Wednesday, June 16, 2004.

Under the Federal Reserve Bank of New York heading, the entry for The Adirondack Trust Company Employee Stock Ownership Trust, Saratoga Springs, New York, is revised to read as follows:

A. Federal Reserve Bank of New York (Jay Bernstein, Bank Supervision Officer) 33 Liberty Street, New York, New York 10045-0001:

1. The Adirondack Trust Company Employee Stock Ownership Trust, Saratoga Springs, New York; to acquire an additional 1.67 percent of the voting shares of 473 Broadway Holding Corporation, for a total of 28.1 percent, and to acquire an additional 2.66 percent of the voting shares of The Adirondack Trust Company, both of Saratoga Springs, New York, for a total of 12.8 percent.

Comments on this application must be received by July 9, 2004.

Board of Governors of the Federal Reserve System, June 25, 2004.
Jennifer J. Johnson,
Secretary of the Board.

[FR Doc. 04-14895 Filed 6-30-04; 8:45 am]

BILLING CODE 6210-01-S